DEPARTMENT OF AGRICULTURE

Animal and Plant Health Inspection Service

[Docket No. APHIS-2012-0112]

Notice of Emergency Approval of an Information Collection; National Animal Health Monitoring System; Equine Herpesvirus Myeloencephalopathy Study

AGENCY: Animal and Plant Health Inspection Service, USDA.

ACTION: Emergency approval of an information collection; comment request.

SUMMARY: In accordance with the Paperwork Reduction Act of 1995, this notice announces that the Animal and Plant Health Inspection Service has requested and received emergency approval of an information collection for a National Animal Health Monitoring System Equine Herpesvirus Myeloencephalopathy Study to support the equine industry in the United States.

DATES: We will consider all comments that we receive on or before June 24, 2013.

ADDRESSES: You may submit comments by either of the following methods:

• Federal eRulemaking Portal: Go to http://www.regulations.gov/#!documentDetail;D=APHIS-2012-0112-0001.

• Postal Mail/Commercial Delivery: Send your comment to Docket No. APHIS-2012-0112, Regulatory Analysis and Development, PPD, APHIS, Station 3A-03.8, 4700 River Road Unit 118, Riverdale, MD 20737-1238.

Supporting documents and any comments we receive on this docket may be viewed at http://www.regulations.gov/#!docketDetail;D=APHIS-2012-0112 or in our reading room, which is located in room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: For information on the Equine Herpesvirus Myeloencephalopathy Study, contact Mr. Chris Quatrano, Industry Analyst, Centers for Epidemiology and Animal Health, VS, APHIS, 2150 Centre Avenue, Building B MS 2E6, Fort Collins, CO 80526; (970) 494-7207. For copies of more detailed information on the information collection, contact Mrs. Celeste Sickles, APHIS' Information Collection Coordinator, at (301) 851-2908.

SUPPLEMENTARY INFORMATION:

Title: National Animal Health Monitoring System; Equine Herpesvirus Myeloencephalopathy Study.

OMB Number: 0579-0399.

Type of Request: Continuation of an emergency approval of an information collection.

Abstract: Under the Animal Health Protection Act (7 U.S.C. 8301 et seq.), the Animal and Plant Health Inspection Service (APHIS) of the U.S. Department of Agriculture (USDA) is authorized, among other things, to protect the health of U.S. livestock and poultry populations by preventing the introduction and interstate spread of serious diseases and pests of livestock and for eradicating such diseases from the United States when feasible. In connection with this mission, APHIS operates the National Animal Health Monitoring System (NAHMS), which collects nationally representative, statistically valid, and scientifically sound data on the prevalence and economic importance of livestock diseases and associated risk factors.

NAHMS' epidemiologic investigations are a collaborative industry and government initiative to help determine the most effective means of preventing and controlling livestock disease outbreaks. APHIS is the only agency responsible for collecting data on livestock health. Participation in any NAHMS study is voluntary, and all data are confidential.

APHIS is conducting an Equine Herpesvirus Myeloencephalopathy (EHM) Study as part of an ongoing series of NAHMS studies on the U.S. livestock population. The purpose of this study is to collect information using questionnaires, during equine herpesvirus (EHV-1) outbreaks, to identify risk factors for EHM. EHM is the neurologic form of EHV-1 in horses. Infection with EHV-1 can result in respiratory disease, abortion in mares, neonatal foal death, and neurologic disease. The virus can spread in many ways, such as through direct horse-to-horse contact, through the air in equine environments, and by contact with contaminated equipment, clothing, and hands. EHM is endemic to the United States, and outbreaks are usually handled by affected States. However, APHIS becomes involved in cases that involve multiple States or the interstate movement of horses.

Due to recent outbreaks of EHV-1 in the United States, APHIS has initiated the study earlier than expected. State animal health officials are currently administering questionnaires, in person or by telephone, to horse owners and trainers of horses infected with EHV-1 that include cases of EHM and horses that are not affected to serve as case controls. The information collected is being used to understand the risk factors for EHM, make recommendations for disease control, and to allow us to provide guidance on the best ways to avoid future outbreaks based on a thorough analysis and interpretation of the data.

The Office of Management and Budget (OMB) has approved our use of these information collection activities on an emergency basis. We plan to request continuation of that approval for 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public reporting burden for this collection of information is estimated to average 0.79226 hours per response.

Respondents: Horse owners and/or trainers and State animal health officials.

Estimated annual number of respondents: 626.

Estimated annual number of responses per respondent: 1.57.

Estimated annual number of responses: 982.

Estimated total annual burden on respondents: 778 hours. (Due to averaging, the total annual burden hours may not equal the product of the annual number of responses multiplied by the reporting burden per response.)

All responses to this notice will be summarized and included in the request for OMB approval. All comments will also become a matter of public record.

Done in Washington, DC, this 18th day of April 2013.
Kevin Shea,
Acting Administrator, Animal and Plant Health Inspection Service.

[FR Doc. 2013-09736 Filed 4-23-13; 8:45 am]

BILLING CODE 3410-34-P